DEPARTMENT OF TRANSPORTATION

Federal Aviation Administration

14 CFR Part 39

[Docket No. FAA-2007-28094; Directorate Identifier 2006-NM-258-AD]

RIN 2120-AA64

Airworthiness Directives; Empresa Brasileira de Aeronautica S.A. (EMBRAER) Model ERJ 170 Airplanes and Model ERJ 190 Airplanes

AGENCY: Federal Aviation Administration (FAA), Department of Transportation (DOT).

ACTION: Notice of proposed rulemaking (NPRM).

SUMMARY: The FAA proposes to supersede an existing airworthiness directive (AD) that applies to all EMBRAER Model ERJ 170-100 LR, -100 STD, -100 SE, and -100 SU airplanes. The existing AD currently requires repetitively replacing the low-stage check valve and associated seals of the right-hand engine bleed system. This proposed AD adds new airplanes to that existing requirement. For all airplanes, this proposed AD would also require repetitively replacing the low-stage check valve and associated seals of the left-hand engine bleed system with a new check valve and new seals. This proposed AD results from a report that an engine shut down during flight due to the failure of the low-stage check valve to close. We are proposing this AD to prevent failure of the low-stage check valve, which could result in an engine shutting down during flight.

DATES: We must receive comments on this proposed AD by June 7, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION:

Comments Invited

We invite you to submit any relevant written data, views, or arguments regarding this proposed AD. Send your comments to an address listed in the ADDRESSES section. Include the docket number “Docket No. FAA-2007-28094; Directorate Identifier 2006-NM-258-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On November 2, 2005, we issued AD 2005-23-14, amendment 39-14372 (70 FR 69075, November 14, 2005), for all EMBRAER Model ERJ 170-100 LR, -100 STD, -100 SE, and -100 SU airplanes. That AD requires repetitive replacement of the low-stage check valve and associated seals of the right-hand (RH) engine bleed system. That AD resulted from a report that an engine shut down during flight due to the failure of the low-stage check valve to close. We issued that AD to prevent failure of the low-stage check valve, which could result in an engine shutting down during flight.

Actions Since Existing AD Was Issued

When we issued AD 2005-23-14, we stated that the unsafe condition could occur on both the left-hand (LH) and RH engines and that we had determined that requiring repetitive replacement on only the RH engine was sufficient, at that time, for reducing the risk of a dual-engine failure to an acceptable level. Also, when we issued AD 2005-23-14, there were insufficient low-stage check valves available to replace the valves of both the LH and RH engine bleed systems. We have now determined that there are sufficient low-stage check valves to support replacing the valves of both the LH and RH engine bleed systems. We have further determined that it is necessary to require repetitive replacement of the LH low-stage check valve to further reduce the possibility for the failure of the low-stage check valve of both engine bleed systems at the same time.

For Model ERJ 170-200 LR, -200 STD, and -200 SU airplanes, the requirement to repetitively replace the RH low-stage check valve is contained in the airworthiness limitations for these airplanes. Therefore, for Model ERJ 170-200 LR, -200 STD, and -200 SU airplanes, this proposed AD would only require repetitive replacement of the low-stage check valves of the LH engine bleed system.

Since we issued AD 2005-23-14, the Agência Nacional de Avição Civil (ANAC), which is the airworthiness authority for Brazil, has notified us that the unsafe condition addressed by AD 2005-23-14 also exists on all EMBRAER Model ERJ 190 airplanes.

Relevant Service Information

EMBRAER has issued Service Bulletin 170-36-0004, dated November 18, 2005, for Model ERJ 170 airplanes; and Service Bulletin 190-36-0004, dated October 18, 2006, for Model ERJ 190 airplanes. The service bulletins describe procedures for repetitively replacing the low-stage check valve and associated seals of the engine bleed system of the LH and RH engines with a new check valve and new seals. The service bulletins also specify sending the removed check valve to the manufacturer. The ANAC mandated the service information and issued Brazilian airworthiness directive 2005-09-03R1, effective May 23, 2006, for all Model ERJ 170 airplanes; and Brazilian airworthiness directive 2006-11-01R1, effective March 21, 2007, for all Model ERJ 190 airplanes; to ensure the continued airworthiness of these airplanes in Brazil.

FAA's Determination and Requirements of the Proposed AD

These airplanes are manufactured in Brazil and are type certificated for operation in the United States under the provisions of section 21.29 of the Federal Aviation Regulations (14 CFR 21.29) and the applicable bilateral airworthiness agreement. Pursuant to this bilateral airworthiness agreement, the ANAC has kept the FAA informed of the situation described above. We have examined the ANAC's findings, evaluated all pertinent information, and determined that AD action is necessary for airplanes of this type design that are certificated for operation in the United States.

This proposed AD would supersede AD 2005-23-14 and would retain the requirements of the existing AD. For Model ERJ 170 airplanes, this proposed AD would also require repetitive replacement of the low-stage check valve and associated seals of the engine bleed system of the LH engine with a new check valve and new seals. For Model ERJ 190 airplanes, this proposed AD would require repetitive replacement of the low-stage check valve and associated seals of the engine bleed system of the LH and RH engines with new check valves and new seals.

Difference Between the Proposed AD and Service Bulletin

Although EMBRAER Service Bulletins 170-36-0004 and 190-36-0004 describe procedures for sending removed check valves to the manufacturer, this proposed AD does not require that action.

Interim Action

This proposed AD is considered to be interim action. The manufacturer has advised that it currently is developing a modification that will address the unsafe condition addressed by this proposed AD. Once this modification is approved we may consider additional rulemaking.

Costs of Compliance

The following table provides the estimated costs, at an average labor rate of $80 per work hour, for U.S. operators to comply with this proposed AD. The parts manufacturer states that it will supply required parts to operators at no cost.

Estimated Costs
Action | Work hours | Cost per airplane | Number of U.S.-registered airplanes | Fleet cost
Replacement of RH check valves on Model ERJ 170-100 LR, -100 STD, -100 SE, and -100 SU airplanes (required by AD 2005-23-14) | 3 | $240, per replacement cycle | 55 | $13,200, per replacement cycle.
Replacement of LH check valves on Model ERJ 170-100 LR, -100 STD, -100 SE, -100 SU, -200 LR, -200 STD, and -200 SU airplanes (new proposed action) | 3 | $240, per replacement cycle | 75 | $18,000, per replacement cycle.
Replacement of RH check valves on Model ERJ 190 airplanes (new proposed action) | 3 | $240, per replacement cycle | 23 | $5,520, per replacement cycle.
Replacement of LH check valves on Model ERJ 190 airplanes (new proposed action) | 3 | $240, per replacement cycle | 23 | $5,520, per replacement cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14372 (70 FR 69075, November 14, 2005) and adding the following new airworthiness directive (AD):

Empresa Brasileira de Aeronautica S.A. (EMBRAER): Docket No. FAA-2007-28094; Directorate Identifier 2006-NM-258-AD.

Comments Due Date

(a) The FAA must receive comments on this AD action by June 7, 2007.

Affected ADs

(b) This AD supersedes AD 2005-23-14.

Applicability

(c) This AD applies to all EMBRAER Model ERJ 170-100 LR, -100 STD, -100 SE, -100 SU, -200 LR, -200 STD, and -200 SU airplanes; and Model ERJ 190-100 STD, -100 LR, and -100 IGW airplanes; certificated in any category.

Unsafe Condition

(d) This AD results from a report that an engine shut down during flight due to the failure of the low-stage check valve to close. We are issuing this AD to prevent failure of the low-stage check valve, which could result in an engine shutting down during flight.

Compliance

(e) You are responsible for having the actions required by this AD performed within the compliance times specified, unless the actions have already been done.

Restatement of Requirements of AD 2005-23-14

Replacement for Right-Hand (RH) Engine on Model ERJ 170-100 LR, -100 STD, -100 SE, and -100 SU Airplanes With New Service Bulletin

(f) For Model ERJ 170-100 LR, -100 STD, -100 SE, and -100 SU airplanes: Within 100 flight hours after November 29, 2005 (the effective date of AD 2005-23-14), or prior to the accumulation of 3,000 total flight hours, whichever occurs later, replace the low-stage check valve and associated seals of the RH engine's engine bleed system with a new check valve and new seals, in accordance with the Accomplishment Instructions of EMBRAER Alert Service Bulletin 170-36-A004, dated September 28, 2005; or paragraph 3.C. of the Accomplishment Instructions of EMBRAER Service Bulletin 170-36-0004, dated November 18, 2005. Repeat the replacement thereafter at intervals not to exceed 3,000 flight hours.

Parts Installation for RH Engine on Model ERJ 170-100 LR, -100 STD, -100 SE, and -100 SU Airplanes

(g) For Model ERJ 170-100 LR, -100 STD, -100 SE, and -100 SU airplanes: As of November 29, 2005, no engine may be installed in the RH position unless the low-stage check valve has been replaced in accordance with the actions required by paragraph (f) of this AD.

Removed Check Valves

(h) Although EMBRAER Alert Service Bulletin 170-36-A004, dated September 28, 2005, specifies to send removed check valves to the manufacturer, this AD does not include that requirement.

New Requirements of This AD

Replacement for Left-Hand (LH) Engine on All Model ERJ 170 Airplanes

(i) For Model ERJ 170-100 LR, -100 STD, -100 SE, -100 SU, -200 LR, -200 STD, and -200 SU airplanes: Within 300 flight hours after the effective date of this AD or prior to the accumulation of 3,000 total flight hours, whichever occurs later, replace the low-stage check valve and associated seals of the LH engine's engine bleed system with a new check valve and new seals, in accordance with paragraph 3.B. of the Accomplishment Instructions of EMBRAER Service Bulletin 170-36-0004, dated November 18, 2005. Repeat the replacement thereafter at intervals not to exceed 3,000 flight hours.

Replacement for RH Engine on Model ERJ 190 Airplanes

(j) For Model ERJ 190-100 STD, -100 LR, and -100 IGW airplanes: Within 100 flight hours after the effective date of this AD or prior to the accumulation of 1,500 total flight hours, whichever occurs later, replace the low-stage check valve and associated seals of the RH engine's engine bleed system with a new check valve and new seals, in accordance with paragraph 3.C. of the Accomplishment Instructions of EMBRAER Service Bulletin 190-36-0004, dated October 18, 2006. Repeat the replacement thereafter at intervals not to exceed 1,500 flight hours.

Replacement for LH Engine on Model ERJ 190 Airplanes

(k) For Model ERJ 190-100 STD, -100 LR, and -100 IGW airplanes: Within 600 flight hours after the effective date of this AD or prior to the accumulation of 1,500 total flight hours, whichever occurs later, replace the low-stage check valve and associated seals of the LH engine's engine bleed system with a new check valve and new seals, in accordance with paragraph 3.B. of the Accomplishment Instructions of EMBRAER Service Bulletin 190-36-0004, dated October 18, 2006. Repeat the replacement thereafter at intervals not to exceed 1,500 flight hours.

Parts Installation for LH Engine on Model ERJ 170 Airplanes

(l) For Model ERJ 170-100 LR, -100 STD, -100 SE, -100 SU, -200 LR, -200 STD, and -200 SU airplanes: As of the effective date of this AD, no engine may be installed in the LH position unless the low-stage check valve has been replaced in accordance with the actions required by paragraph (i) of this AD.

Parts Installation for RH and LH Engine on Model ERJ 190 Airplanes

(m) For Model ERJ 190-100 STD, -100 LR, and -100 IGW airplanes: As of the effective date of this AD; no engine may be installed in the RH position unless the low-stage check valve has been replaced in accordance with the actions required by paragraph (j) of this AD; and no engine may be installed in the LH position unless the low-stage check valve has been replaced in accordance with the actions required by paragraph (k) of this AD.

Removed Check Valves in Accordance With New Service Bulletins

(n) Although EMBRAER Service Bulletin 170-36-0004, dated November 18, 2005; and EMBRAER Service Bulletin 190-36-0004, dated October 18, 2006; specify to send removed check valves to the manufacturer, this AD does not include that requirement.

Alternative Methods of Compliance (AMOCs)

(o)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(p) Brazilian airworthiness directive 2005-09-03R1, effective May 23, 2006; and Brazilian airworthiness directive 2006-11-01R1, effective March 21, 2007; also address the subject of this AD.

Issued in Renton, Washington, on April 30, 2007.
Ali Bahrami,
Manager, Transport Airplane Directorate, Aircraft Certification Service.

[FR Doc. E7-8761 Filed 5-7-07; 8:45 am]

BILLING CODE 4910-13-P